DEPARTMENT OF COMMERCE

International Trade Administration

[A-834-807, A-533-823]

Notice of Postponement of Final Determinations for Antidumping Duty Investigations: Silicomanganese From Kazakhstan and India

AGENCY: Import Administration, International Trade Administration, Department of Commerce.

ACTION: Notice of extension of time limit for final determinations in the antidumping duty investigations of silicomanganese from Kazakhstan and India.

SUMMARY: The Department of Commerce (“Department”) is extending the time limit for the final determinations in the antidumping duty investigations of silicomanganese from Kazakhstan and India.

EFFECTIVE DATE: December 7, 2001.

FOR FURTHER INFORMATION CONTACT: Jean Kemp (Kazakhstan), at (202) 482-4037, and Sally Gannon (India) at (202) 482-0162, at the Import Administration, International Trade Administration, U.S. Department of Commerce, 1401 Constitution Avenue, NW., Washington, DC 20230.

Applicable Statute and Regulations

Unless otherwise indicated, all citations to the Tariff Act of 1930, as amended (“Act”), are references to the provisions effective January 1, 1995, the effective date of the amendments made to the Act by the Uruguay Round Agreements Act (“URAA”). In addition, unless otherwise indicated, all citations to the Department's regulations are to the regulations codified at 19 CFR part 351 (2001).

Postponement of Final Determinations and Extension of Provisional Measures

On November 9, 2001, the affirmative preliminary determinations were published for the investigations of silicomanganese from Kazakhstan and India. See Notice of Preliminary Determination of Sales at Less Than Fair Value: Silicomanganese from Kazakhstan, 66 FR 56639 (November 9, 2001) and Notice of Preliminary Determination of Sales at Less Than Fair Value: Silicomanganese from India, 66 FR 56644 (November 9, 2001). Pursuant to section 735(a)(2) of the Act and section 351.210(b)(2)(ii) of the Department's regulations, on November 8, 2001, Transnational Co. Kazchrome and its Aksu Ferroalloy Plant (“Kazchrome”), Considar, Inc. (“Considar”), and Alloy 2000 (“Alloy 2000”) requested that the Department extend the period for final determination for silicomanganese from Kazakhstan. On November 16, 2001, Kazchrome, Considar, and Alloy 2000 submitted an amended request that the Department extend provisional measures (i.e., suspension of liquidation) from a four-month period to a period not to exceed six months, pursuant to 19 CFR 351.210(e)(2). On November 20, 2001, Universal Ferro & Allied Chemicals, Ltd (“Universal”), requested that the Department postpone the final determination of silicomanganese from India until not later than 135 days after the date of the publication of the preliminary determination in the Federal Register and requested an extension of provisional measures.

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by petitioners. The Department's regulations, at 19 CFR 351.210(e)(2), require that requests by respondents for postponement of a final determination be accompanied by a request for extension of provisional measures from a four-month period to not more than six months.

In accordance with 19 CFR 351.210(b)(2)(ii), because (1) The preliminary determinations for silicomanganese from Kazakhstan and India are affirmative, (2) the respondents requesting a postponement account for a significant proportion of exports of the subject merchandise from their respective countries, and (3) no compelling reasons for denial exist, we are granting the respondents' requests and are postponing the final determinations to March 25, 2002, which is not later than 135 days after the publication of the preliminary determinations in the Federal Register. Suspension of liquidation will be extended accordingly.

Furthermore, in the Department's November 9, 2001 preliminary determination on silicomanganese from Kazakhstan, the Department invited public comment with respect to Kazakhstan's status as a non-market economy (“NME”) country on factors listed in section 771(18) of the Act, which the Department must take into account in making a market/non-market economy determination. See Notice of Preliminary Determination of Sales at Less Than Fair Value: Silicomanganese from Kazakhstan, 66 FR 56641 (November 9, 2001). Public comments are currently due no later than December 10, 2001. The Department further requests any rebuttal comments be submitted no later than January 24, 2002.

This notice of postponement is published pursuant to 19 CFR 351.210(g).

Dated: December 3, 2001.
Bernard Carreau,
Acting Assistant Secretary for Import Administration.

[FR Doc. 01-30376 Filed 12-6-01; 8:45 am]

BILLING CODE 3510-DS-P